DEPARTMENT OF THE INTERIOR

Bureau of Indian Affairs

Jicarilla Apache Nation Liquor Ordinance Number Correction

AGENCY: Bureau of Indian Affairs, Interior.

ACTION: Notice; correction.

SUMMARY: The Bureau of Indian Affairs published a document in the Federal Register of August 8, 2008, concerning the amended Jicarilla Apache Nation Liquor Ordinance. The document contained an incorrect ordinance number.

DATES: Effective Date: This correction is effective as of September 10, 2008.

FOR FURTHER INFORMATION CONTACT: Elizabeth Colliflower, Office of Tribal Services, 1849 C Street, NW., Mail Stop 4513-MIB, Washington, DC 20240; Telephone (202) 513-7640; Fax (202) 208-5113.

Correction

In the Federal Register of August 8, 2008, in FR Doc. E8-18287, on page 46326, in the first column, correct the number of the Ordinance to read:

Ordinance No. 2007-O-525-12.

Dated: September 2, 2008.
George T. Skibine,
Acting Deputy Assistant Secretary for Policy and Economic Development.

[FR Doc. E8-20949 Filed 9-9-08; 8:45 am]

BILLING CODE 4310-4J-P